DEPARTMENT OF STATE

[Public Notice 5406]

Overseas Security Advisory Council (OSAC) Meeting Notice

Closed Meeting

The Department of State announces a meeting of the U.S. State Department—Overseas Security Advisory Council on June 28, 2006 at the Federal Bureau of Investigation, Washington, DC. Pursuant to Section 10(d) of the Federal Advisory Committee Act and 5 U.S.C. 552b[c][4], it has been determined that the meeting will be closed to the public. The meeting will focus on an examination of corporate security policies and procedures and will involve extensive discussion of proprietary commercial and financial information that is considered privileged and confidential. The agenda will include updated committee reports, a global threat overview, and other matters relating to private sector security policies and protective programs and the protection of U.S. business information overseas.

For More Information Contact: Marsha Thurman, Overseas Security Advisory Council, Department of State, Washington, DC 20522-2008, phone: 571-345-2214.

Dated: May 24, 2006.
Joe D. Morton,
Director of the Diplomatic Security Service, Department of State.

[FR Doc. E6-8730 Filed 6-5-06; 8:45 am]

BILLING CODE 4710-43-P